DEPARTMENT OF HEALTH AND HUMAN SERVICES

Centers for Disease Control and Prevention

[30Day-18-0900]

Agency Forms Undergoing Paperwork Reduction Act Review

In accordance with the Paperwork Reduction Act of 1995, the Centers for Disease Control and Prevention (CDC) has submitted the information collection request titled Contact Investigation Outcome Reporting Forms to the Office of Management and Budget (OMB) for review and approval. CDC previously published a “Proposed Data Collection Submitted for Public Comment and Recommendations” notice on October 13, 2017 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Contact Investigation Outcome Reporting Forms (OMB Control Number 0920-0900, expiration date 06/30/2018)—Revision—National Center for Emerging and Zoonotic Infectious Diseases (NCEZID), Centers for Disease Control and Prevention (CDC).

Background and Brief Description

CDC's Division of Global Migration and Quarantine has a regulatory and public health mission to prevent the importation and spread of communicable disease into and within the United States. CDC works towards fulfilling this mission through a number of activities carried out at Quarantine Stations strategically placed at 20 U.S. ports of entry as well as coordinating activities at CDC headquarters in Atlanta, Georgia. A key portion of this mission is responding to reports of illness or death on air and maritime conveyances and investigating any potential exposures to determine if public health follow up is needed.

CDC proposes to continue collecting passenger-level, epidemiologic, demographic, and health status data from state/local Health Departments and maritime operators at the conclusion of contact investigations of individuals believed to have been exposed to a communicable disease during travel. Health departments or maritime operators will obtain the information for CDC while conducting contact investigations according to their established policies and procedures.

The current information collection request includes forms that are specific to investigations about Tuberculosis (TB), Measles, and Rubella. The request also includes a General form for other diseases of public health concern. In 2011, OMB initially approved the forms to facilitate the collection and reporting of pertinent information. Prior to 2011, there were no standardized tools for health departments and maritime operators to report the outcomes of state or vessel contact investigations to CDC.

The collected information will assist CDC in fulfilling its regulatory responsibility to prevent the importation of communicable diseases from foreign countries (42 CFR part 71) and interstate control of communicable diseases in humans (42 CFR part 70). This information collection is also a critical piece of the standard operating procedures carried out by the 20 Quarantine Stations placed at key ports of entry around the United States. The purpose of all forms is the same: to facilitate the collection of information by public health partners to help CDC quarantine officials fully understand the extent of disease spread and transmission during travel and to inform the development and or refinement of investigative protocols aimed at reducing the spread of communicable disease.

The respondents, state and local health departments and maritime conveyance operators (e.g., Cruise Ship Medical Staff/Cargo Ship Managers), may use the standardized forms to submit data voluntarily to CDC via a secure means of their choice (e.g., web-based application, fax or email).

As part of this revision, CDC requests approval for a number of changes and adjustments:

• CDC is discontinuing all Ebola related forms;

• CDC is discontinuing all current maritime-related forms except a condensed maritime TB contact investigation follow-up form in an Excel format;

• CDC is requesting a downward revision of the estimated number of TB contact investigation forms used annually, but an upward revision of the amount of time requested from each respondent;

• CDC is requesting addition of varicella and influenza like illness outbreak contact investigation follow up forms;

• no changes are requested of the Air or Land associated forms; however adjustments in burden are requested.

The proposed changes will result in a decrease of 673 burden hours (from 782 burden hours to 109 hours).

There is no cost to respondents other than their time to complete the form and submit the data to CDC.

Estimated Annualized Burden Hours
Type of respondents | Form name | Number of respondents | Number of responses per respondent | Average burden per response (in hours)
Cruise Ship Physicians/Cargo Ship Managers | Clinically Active TB Contact Investigation Outcome Reporting Form—Maritime | 15 | 1 | 20/60
Cruise Ship Physicians/Cargo Ship Managers | Varicella Investigation Outcome Reporting Form | 29 | 1 | 20/60
Cruise Ship Physicians/Cargo Ship Managers | Influenza Like Illness Investigation Outcome Reporting Form | 45 | 1 | 20/60
State/Local public health staff | General Contact Investigation Outcome Reporting Form—Air | 34 | 1 | 5/60
State/Local public health staff | TB Contact Investigation Outcome Reporting Form—Air | 547 | 1 | 5/60
State/Local public health staff | Measles Contact Investigation Outcome Reporting Form—Air | 324 | 1 | 5/60
State/Local public health staff | Rubella Contact Investigation Outcome Reporting Form—Air | 27 | 1 | 5/60
State/Local public health staff | General Contact Investigation Outcome Reporting Form—Land | 15 | 1 | 5/60

Leroy A. Richardson,
Chief, Information Collection Review Office, Office of Scientific Integrity, Office of the Associate Director for Science, Office of the Director, Centers for Disease Control and Prevention.

[FR Doc. 2018-08163 Filed 4-18-18; 8:45 am]

BILLING CODE 4163-18-P